DEPARTMENT OF HEALTH AND HUMAN SERVICES

Statement of Organization, Functions, and Delegations of Authority: Office of the Secretary; Office of the Assistant Secretary for Financial Resources

Part A, Office of the Secretary, Statement of Organization, Functions and Delegations of Authority for the Department of Health and Human Services (HHS) is being amended at Chapter AM, Office of the Assistant Secretary for Financial Resources (ASFR), as last amended at 75 FR 369-370, dated January 5, 2010, 74 FR 57679-57682, dated November 9, 2009, 74 FR 39325-39327, dated August 6, 2009, 74 FR 18238-18238, dated April 21, 2009, 73 FR 31486-31487, dated June 2, 2008, 72 FR 56074-75, dated October 2, 2007, 72 FR 2282-2283, dated January 18, 2007, and 71 FR 38884-88, dated July 10, 2006, as follows:

1. Under Chapter AMS, Office of Finance, Section AMS.20 Functions, Paragraph 3, Office of Program Management and Systems Policy (AMS2), retitle all references to the “Division of Systems Policy, Payment Integrity and Audit Resolution (AMS22)” as the “Division of Systems Policy and Audit Resolution (AMS22).”

2. Under Chapter AMS, Office of Finance, Section AMS.20 Functions, Paragraph 3, Office of Program Management and Systems Policy (AMS2), Section b, Division of Systems Policy and Audit Resolution (AMS22), delete Section “(2)” and all associated subsections (i.e., section (a) thru section (c)) in their entirety.

3. Under Chapter AMS, Office of Finance, Section AMS.10 Organization, insert the following new office after the Office of Program Management and Systems Policy, “Office of Program Integrity Coordination (AMS3).”

4. Under Chapter AMS, Office of Finance, Section AMS.20 Functions, insert the following after Paragraph 3:

4. Office of Program Integrity Coordination (AMS3). The Office of Program Integrity Coordination serves as the central point for coordinating program integrity issues across the Department. The Office coordinates program integrity related activities and projects and supports Department-wide communication and exchange of program integrity information. The office is responsible for overseeing: program integrity assessments, including development of strategies and implementation plans to increase program integrity; establishment of metrics; ongoing program integrity monitoring; reviews of particular programs with program integrity concerns and payment accuracy improvement activities.

The Office of Program Integrity Coordination (OPIC) consists of the following components:

• Division of Program Integrity Assessment and Improvement (AMS31).

• Division of Outreach, Communications, and Training (AMS32).

• Division of Payment Accuracy Improvement (AMS33).

a. Division of Program Integrity Assessment and Improvement (AMS31): The Division's responsibilities include: Developing tools and guidance regarding program integrity; Providing technical assistance and direction to Operating and Staff Divisions on implementing program integrity improvements; Identifying and utilizing innovative tools that increase program integrity across the Department; and other activities that advance program integrity.

b. Division of Outreach, Communications, and Training (AMS32): The Division's responsibilities include: Providing support for the Secretary's Council on Program Integrity, the Program Integrity Coordinating Council, Program Integrity response teams, and other program integrity groups; Coordinating program integrity related communications internally and working closely with Assistant Secretary for Public Affairs and Divisions on the preparation of public statements and communications related to program integrity; Developing and/or providing program integrity related training materials; and other activities that advance the communication, training and public relations aspects of program integrity.

c. Division of Payment Accuracy Improvement (AMS33): The Division's responsibilities include: Implementing the Improper Payment Elimination and Recovery Act of 2010 and related executive order and improper payment guidance across the Department; Providing analyses of high risk programs and coordinating error rate measurements and improvements for high risk programs; and other activities that support improving payment accuracy.

5. Delegation of Authority. Pending further redelegation, directives or orders made by the Secretary or ASFR, all delegations and redelegations of authority made to officials and employees of affected organizational components will continue in them or their successors pending further redelegations, provided they are consistent with this reorganization.

Dated: March 30, 2011.
E.J. Holland, Jr.,
Assistant Secretary for Administration.

[FR Doc. 2011-8358 Filed 4-7-11; 8:45 am]

BILLING CODE 4150-24-P